DEPARTMENT OF ENERGY

Federal Energy Regulatory Commission

[Docket No. RP03-629-000]

Northern Border Pipeline Company; Notice of Tariff Filing

October 14, 2003.

Take notice that on September 30, 2003, Northern Border Pipeline Company (Northern Border) tendered for filing to become part of its FERC Gas Tariff, First Revised Volume No. 1, the tariff sheets listed on Appendix A to the filing, with an effective date of November 1, 2003.

Northern Border states that the purpose of this filing is to revise the necessary tariff sheets to assure that the electronically executed form of Service Agreement, applicable tariff sheets and pro forma Service Agreements under Rate Schedules T-1, T-1B, IT-1, and PAL do not contain any material deviation that goes beyond filling in the blank spaces or that affects the substantive rights of the parties in any way. Additionally, Northern Border is making some minor housekeeping changes.

Northern Border states that copies of this filing have been sent to all of Northern Border's contracted shippers and interested state regulatory commissions.

Any person desiring to be heard or to protest said filing should file a motion to intervene or a protest with the Federal Energy Regulatory Commission, 888 First Street, NE., Washington, DC 20426, in accordance with Sections 385.214 or 385.211 of the Commission's Rules and Regulations. All such motions or protests must be filed on or before the comment date below. Protests will be considered by the Commission in determining the appropriate action to be taken, but will not serve to make protestants parties to the proceedings. Any person wishing to become a party must file a motion to intervene. This filing is available for review at the Commission in the Public Reference Room or may be viewed on the Commission's Web site at http://www.ferc.gov using the “eLibrary”. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's web site under the “e-Filing” link.

Comment Date: October 17, 2003.

Magalie R. Salas,
Secretary.

[FR Doc. E3-00076 Filed 10-21-03; 8:45 am]

BILLING CODE 6717-01-P